DEPARTMENT OF TRANSPORTATION

Federal Transit Administration

Limitation on Claims Against Proposed Public Transportation Projects

AGENCY: Federal Transit Administration (FTA), DOT.

ACTION: Notice.

SUMMARY: This notice announces final environmental actions taken by the Federal Transit Administration (FTA). The purpose of this notice is to announce publicly the environmental decisions by FTA on the subject projects and to activate the limitation on any claims that may challenge these final environmental actions.

DATES: A claim seeking judicial review of FTA actions announced herein for the listed public transportation projects will be barred unless the claim is filed on or before March 14, 2022.

FOR FURTHER INFORMATION CONTACT: Kathryn Loster, Assistant Chief Counsel, Office of Chief Counsel, (312) 353-3869 or Saadat Khan, Environmental Protection Specialist, Office of Environmental Programs, (202) 366-9647. FTA is located at 1200 New Jersey Avenue SE, Washington, DC 20590. Office hours are from 9:00 a.m. to 5:00 p.m., Monday through Friday, except Federal holidays.

SUPPLEMENTARY INFORMATION: Notice is hereby given that FTA has taken final agency actions subject to 23 U.S.C. 139(l) by issuing certain approvals for the public transportation projects listed below. The actions on the projects, as well as the laws under which such actions were taken, are described in the documentation issued in connection with the projects to comply with the National Environmental Policy Act (NEPA) and in other documents in the FTA environmental project file for the project. Interested parties may contact either the project sponsor or the relevant FTA Regional Office for more information. Contact information for FTA's Regional Offices may be found at https://www.transit.dot.gov.

This notice applies to all FTA decisions on the listed projects as of the issuance date of this notice and all laws under which such actions were taken, including, but not limited to, NEPA [42 U.S.C. 4321-4375], Section 4(f) requirements [23 U.S.C. 138, 49 U.S.C. 303], section 106 of the National Historic Preservation Act [54 U.S.C. 306108], Endangered Species Act [16 U.S.C. 1531], Clean Water Act [33 U.S.C. 1251], the Uniform Relocation and Real Property Acquisition Policies Act [42 U.S.C. 4601], and the Clean Air Act [42 U.S.C. 7401-7671q]. This notice does not, however, alter or extend the limitation period for challenges of project decisions subject to previous notices published in the Federal Register. The projects and actions that are the subject of this notice follow:

1. Project name and location: Illinois Terminal Expansion Project, Champaign County, Illinois. Project Sponsor: Champaign-Urbana Mass Transit District (MTD), Urbana, Illinois. Project description: The project involves Illinois Terminal expansion on parcels north of Logan Street, construction of dedicated intercity and rural bus platforms to reduce bus congestion, construction of controlled pedestrian access to bus platforms, and visibility improvements. The project also includes interior renovation and expansion of the Illinois Terminal including waiting areas, passenger amenities and creating green space. Final agency action: Section 106 no adverse effect determination, dated March 24, 2021; Illinois Terminal Expansion Finding of No Significant Impacts (FONSI), dated September 2, 2021. Supporting documentation: Illinois Terminal Expansion Environmental Assessment (EA), dated, May 25, 2021. The EA, FONSI and associated documents can be viewed and downloaded from: https://mtd.org/inside/projects/illinois-terminal-expansion/.

2. Project name and location: Rush Line Bus Rapid Transit (BRT) Project, Ramsey County, Minnesota. Project Sponsor: Ramsey County Regional Railroad Authority, Saint Paul, Minnesota. Project description: The Rush Line BRT Project is a 15-mile BRT route connecting Saint Paul, Maplewood, White Bear Township, Vadnais Heights, Gem Lake and White Bear Lake. The BRT route will operate in both a dedicated guideway and mixed traffic along Robert Street, Jackson Street, Phalen Boulevard, Ramsey County rail right-of-way and Highway 6. The project involves construction of 21 stations consisting of: Station platforms; shelters; ticket machines for off-board fare purchase; real-time bus schedule information; bicycle parking; on-demand heat; trash and recycling bins; emergency telephones; security cameras; energy-efficient LED station lighting; and information about the station, route, transit system and neighborhood. The project would also serve one existing park-and-ride at the Maplewood Mall Transit Center, and include construction of two park-and-rides facilities at Highway 36 and County Road E.

Final agency actions: Section 4(f) individual use and de minimis impact determination; Section 106 Memorandum of Agreement, dated October 1, 2021; and Rush Line Bus Rapid Transit (BRT) Project Finding of No Significant Impacts (FONSI), dated October 05, 2021. Supporting documentation: Rush Line Bus Rapid Transit (BRT) Project Environmental Assessment (EA), dated, May 11, 2021. The EA, FONSI and associated documents can be viewed and downloaded from: https://www.ramseycounty.us/residents/roads-transportation/transit-corridors-studies/rush-line-brt-project/environmental-process.

3. Project name and location: Penn Station Access Project, New York City and New Rochelle, New York. Project Sponsor: Metropolitan Transportation Authority (MTA), New York, New York. Project description: The project will provide new rail service from New Haven, Connecticut to Penn Station New York (PSNY) in Manhattan by utilizing Amtrak's Hell Gate Line (HGL) on the Northeast Corridor (NEC), through the eastern Bronx and western Queens. The project will make infrastructure improvements on the HGL beginning in southeastern Westchester County and extending to Harold Interlocking in Queens, joining the MTA Long Island Rail Road (LIRR) Main Line. The project also involves construction of four new Metro-North stations in the eastern Bronx at Hunts Point, Parkchester-Van Nest, Morris Park, and Co-op City. Final agency action: Section 4(f) de minimis impact determination; Section 106 Programmatic Agreement, dated September 24, 2021; Penn Station Access Project Finding of No Significant Impacts (FONSI), dated September 24, 2021. Supporting documentation: Penn Station Access Project Environmental Assessment (EA), dated May 13, 2021. The EA, FONSI and associated documents can be viewed and downloaded from: https://pennstationaccess.info/environmental-assessment.

Authority: 23 U.S.C. 139(l)(1).

Mark A. Ferroni,
Deputy Associate Administrator for Planning and Environment.

[FR Doc. 2021-22507 Filed 10-14-21; 8:45 am]

BILLING CODE P